DEPARTMENT OF COMMERCE

Bureau of Economic Analysis

Proposed Information Collection; Comment Request; Direct Investment Surveys: BE-11, Annual Survey of U.S. Direct Investment Abroad

AGENCY: Bureau of Economic Analysis, Commerce.

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before September 9, 2013.

ADDRESSES: Direct all written comments to Jennifer Jessup, Departmental Paperwork Clearance Officer, Department of Commerce, Room 6616, 14th and Constitution Avenue NW., Washington, DC 20230, or via email at jjessup@doc.gov.

FOR FURTHER INFORMATION CONTACT: Requests for additional information or copies of the information collection instrument and instructions should be directed to Sarahelen Thompson, Acting Chief, Direct Investment Division (BE-50), Bureau of Economic Analysis, U.S. Department of Commerce, Washington, DC 20230; phone: (202) 606-9660; fax: (202) 606-5318; or via email at Sally.Thompson@bea.gov.

SUPPLEMENTARY INFORMATION:

1. Abstract

The Annual Survey of U.S. Direct Investment Abroad (Form BE-11) obtains financial and operating data covering the operations of U.S. parents and their foreign affiliates, including their balance sheets; income statements; property, plant, and equipment; employment and employee compensation; merchandise trade; sales of goods and services; taxes; and research and development activity. The survey is a sample survey that covers all foreign affiliates above a size-exemption level and their U.S. parents. The sample data are used to derive universe estimates in nonbenchmark years from similar data reported in the BE-10, Benchmark Survey of U.S. Direct Investment Abroad, which is conducted every five years. The data are needed to measure the size and economic significance of direct investment abroad, measure changes in such investment, and assess its impact on the U.S. and foreign economies.

No changes to the survey forms or reporting requirements are proposed.

II. Method of Collection

Survey forms are sent to potential respondents in March of each year; responses covering a reporting company's fiscal year ending during the previous calendar year are due by May 31. A report must be filed by each U.S. person that has a direct and/or indirect ownership interest of at least 10 percent of the voting stock (or the equivalent) in a foreign business enterprise and that meets the additional conditions detailed in Form BE-11.

As an alternative to filing paper forms, BEA offers an electronic filing option, the eFile system, for use in reporting on Form BE-11. For more information about eFile, go to www.bea.gov/efile.

Potential respondents are those U.S. parents that reported owning foreign business enterprises in the 2009 benchmark survey of U.S. direct investment abroad, along with entities that subsequently entered the direct investment universe. The data collected are sample data. Universe estimates are developed from the reported sample data.

III. Data

OMB Control Number: 0608-0053.

Form Number: BE-11.

Type of Review: Regular submission.

Affected Public: Businesses or other for-profit organizations.

Estimated Number of Respondents: 1,900 U.S. parents filing for their U.S. operations and for 18,700 foreign affiliates.

Estimated Time per Response: 91 hours is the average, but may vary considerably among respondents because of differences in company structure, size, and complexity.

Estimated Total Annual Burden Hours: 172,600.

Estimated Total Annual Cost to Public: $0.

Respondent's Obligation: Mandatory.

Legal Authority: International Investment and Trade in Services Survey Act (Pub. L. 94-472, 22 U.S.C. 3101-3108, as amended by Pub. L. 98-573 and Pub. L. 101-533).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 2, 2013.
Glenna Mickelson,
Management Analyst, Office of Chief Information Officer.

[FR Doc. 2013-16330 Filed 7-8-13; 8:45 am]

BILLING CODE 3510-06-P